DEPARTMENT OF THE INTERIOR

National Park Service

Notice of Inventory Completion for Native American Human Remains and Associated Funerary Objects from Sandoval County, NM in the Control of the Bureau of Indian Affairs, Department of the Interior, Washington, DC and in the Possession of the University of Denver Department of Anthropology and Museum of Anthropology, Denver, CO

AGENCY: National Park Service, Interior.

ACTION: Notice.

Notice is hereby given in accordance with provisions of the Native American Graves Protection and Repatriation Act (NAGPRA), 43 CFR 10.9, of the completion of an inventory of human remains and associated funerary objects in the control of the Bureau of Indian Affairs, Department of the Interior, Washington, DC, and in the possession of the University of Denver Department of Anthropology and Museum of Anthropology, Denver, CO.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by University of Denver Department of Anthropology and Museum of Anthropology professional staff, a contract physical anthropologist, and the New Mexico State Archaeologist, in consultation with representatives of the Pueblo of Jemez, the Pueblo of Acoma, and the Pueblo of Zia.

At an unknown date, human remains representing one individual were recovered by an unknown individual from Old Zia Pueblo, Sandoval County, New Mexico, within the exterior boundaries of the Zia Pueblo reservation. According to an account written by Theodore Sowers, Ray Salas, Governor of the Pueblo of Zia, gave the remains to Mr. Sowers in the late 1930's or early 1940's, although the circumstances under which this transfer occurred are not described. It is not clear whether Mr. Salas was acting in his capacity as an elected Tribal official when he gave the remains to Mr. Sowers. Mr. Sowers was a graduate of the University of Denver, and, in 1995, his daughters donated the remains to the University of Denver so that they could be repatriated. The identity of this individual is not known. There are no associated funerary objects.

Oral history, archeological evidence, and ethnohistoric documents have identified Old Zia as a group of four abandoned villages that were occupied by the Zia people from approximately A.D. 1250 to 1800. Upon the abandonment of these villages, their occupants moved to the remaining village, which is the present-day Pueblo of Zia. These remains came from one of the four Old Zia sites, but it is impossible to determine which site. The cultural, social, linguistic, and historic continuity of affiliation between the Pueblo of Zia and people of Old Zia is attested by evidence from oral history presented during the consultations, and supported by the ethnological data and historic accounts of the Spanish colonizers.

Based on the above-mentioned information, officials of the University of Denver Department of Anthropology and Museum of Anthropology have determined that, pursuant to 43 CFR 10.2 (d)(1), the human remains listed above represent the physical remains of one individual of Native American ancestry. Also, officials of the University of Denver Department of Anthropology and Museum of Anthropology have determined that, pursuant to 43 CFR 10.2 (e), there is a relationship of shared group identity that can be reasonably traced between these Native American human remains and the Pueblo of Zia.

This notice has been sent to officials of the Pueblo of Jemez, the Pueblo of Acoma, the Pueblo of Zia, and the Bureau of Indian Affairs. Representatives of any other Indian tribe that believes itself to be culturally affiliated with these human remains and associated funerary objects should contact Jan I. Bernstein, Collections Manager and NAGPRA Coordinator, University of Denver Museum of Anthropology, 2000 Asbury, Sturm Hall S-146, Denver, CO 80218-2406, email jbernste@du.edu, telephone (303) 871-2543, before October 12, 2000. Repatriation of the human remains to the Pueblo of Zia may begin after that date if no additional claimants come forward.

Dated: August 22, 2000.
John Robbins,
Assistant Director, Cultural Resources Stewardship and Partnerships.

[FR Doc. 00-23382 Filed 9-11-00; 8:45 am]

BILLING CODE 4310-70-F